ENVIRONMENTAL PROTECTION AGENCY

[ER-FRL-9023-9]

Environmental Impact Statements; Notice of Availability Responsible Agency: Office of Federal Activities, General Information (202) 564-7146 or http://www2.epa.gov/nepa

Weekly receipt of Environmental Impact Statements (EISs)

Filed 11/02/2015 Through 11/06/2015

Pursuant to 40 CFR 1506.9.

Notice: Section 309(a) of the Clean Air Act requires that EPA make public its comments on EISs issued by other Federal agencies. EPA's comment letters on EISs are available at: https://www.cdxnodengn.epa.gov/cdx-nepa-public/action/eis/search.

EIS No. 20150312, Draft, FRA, 00, Northeast Corridor (NEC) FUTURE Program Tier 1, Comment Period Ends: 01/30/2016, Contact: Rebecca Reyes-Alicea 212-668-2282

EIS No. 20150313, Draft, NRC, MI, Generic—License Renewal of Nuclear Plants: Supplement 56 Regarding Fermi 2 Nuclear Power Plant, Comment Period Ends: 12/28/2015, Contact: Elaine M. Keegan 301-415-8517

EIS No. 20150314, Draft, NOAA, WA, Analyze Impacts of NOAA's National Marine Fisheries Service Proposed 4(d) Determination under Limit 6 for Five Early Winter Steelhead Hatchery Programs in Puget Sound, Comment Period Ends: 12/28/2015, Contact: Steve Leider 360-753-4650

EIS No. 20150315, Final, BLM, CA, Desert Renewable Energy Conservation Plan Proposed Land Use Plan Amendment, Review Period Ends: 12/14/2015, Contact: Vicki Campbell 916-978-4401

EIS No. 20150316, Final, DOE, OK, Plains and Eastern Clean Line Transmission Line Project, Review Period Ends: 12/14/2015, Contact: Dr. Jane Summerson 505-845-4091

EIS No. 20150317, Final, USACE, USFS, MN, NorthMet Mining Project and Land Exchange, Review Period Ends: 12/14/2015, Contact: Douglas Bruner 651-290-5378

The U.S. Department of Army's Corps of Engineers and the U.S. Department of Agriculture's Forest Service are joint lead agencies for the above project.

EIS No. 20150318, Final, USFS, ID, Salmon-Challis National Forest Invasive Plant Treatment, Review Period Ends: 01/04/2016, Contact: Jennifer Purvine 208-879-4162

Amended Notices:

EIS No. 20150278, Draft, USACE, GA, Update of the Water Control Manual for the Apalachicola-Chattahoochee-Flint River Basin in Alabama, Florida, and Georgia and Water Supply Storage Assessment, Comment Period Ends: 01/15/2016, Contact: Lewis C. Sumner 251-694-3857

Revision to FR Notice Published 10/09/2015; Extending Comment Period from 12/01/2015 to 01/15/2016

Dated: November 9, 2015.
Dawn Roberts,
Management Analyst, NEPA Compliance Division, Office of Federal Activities.

[FR Doc. 2015-28890 Filed 11-12-15; 8:45 am]

BILLING CODE 6560-50-P